DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Western Railroad Supply (Waiver Petition Docket Number FRA-2004-17988)

Western Railroad Supply seeks a waiver of compliance from certain provisions of the Safety Glazing Standards, 49 CFR Part 223, which requires certified glazing in all windows. The company performs railcar switching at Dow Chemical located at 901 Loveridge Road, Pittsburg, California. During switching activity, crews leave the plant track to access a storage yard located on BNSF track. Track distance within the yard is approximately 10 miles. Distance of the BNSF track is less than 1 mile. Crews operate between the hours of 4 pm to 4 am, Monday through Friday within a fenced area, maintaining 24 hour security.

This request is for one locomotive, specifically locomotive number IRLX 1001. At the present time, the engine is a backup unit and is equipped with Auto Safety Glazed glass in all windows. The company claims that in their four years of operations, there has never been an instance of vandalism to the equipment or at this location.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number 2004-17988) and must be submitted to the Docket Clerk, DOT Docket Management Facility, Room PL-401 (Plaza Level), 400 7th Street, SW., Washington, DC 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC, on August 23, 2004.
Grady C. Cothen, Jr.
Acting Associate Administrator for Safety.

[FR Doc. 04-19741 Filed 8-27-04; 8:45 am]

BILLING CODE 4910-06-P